DEPARTMENT OF LABOR

Occupational Safety and Health Administration

[Docket No. OSHA-2013-0011]

Interlake Stamping Corp. (Also Doing Business as Interlake Industries, Inc.); Revocation of an Experimental Variance and Interim Order

AGENCY: Occupational Safety and Health Administration (OSHA), Labor.

ACTION: Notice.

SUMMARY: In this notice, the Occupational Safety and Health Administration (“OSHA” or the “Agency”) revokes an experimental variance and interim order granted by OSHA in 1976 and 1978, respectively, to Interlake Stamping Corp., (“Interlake” or the “applicant”) from several provisions of the OSHA standard that regulates mechanical power presses at 29 CFR 1910.217. In April 2011, Interlake submitted an application request for a permanent variance from these provisions, but later withdrew the application, stating that it would be too costly to comply with the conditions of the variance. Therefore, OSHA is revoking Interlake's experimental variance and the interim order.

DATES: The revocation becomes effective on March 7, 2014.

FOR FURTHER INFORMATION CONTACT: Information regarding this notice is available from the following sources:

Press inquiries: Contact Frank Meilinger, Director, OSHA Office of Communications, U.S. Department of Labor, 200 Constitution Avenue NW., Room N-3647, Washington, DC 20210; telephone: (202) 693-1999; email: Meilinger.francis2@dol.gov.

General and technical information: Contact David Johnson, Director, Office of Technical Programs and Coordination Activities, Directorate of Technical Support and Emergency Management, Occupational Safety and Health Administration, U.S. Department of Labor, 200 Constitution Avenue NW., Room N-3655, Washington, DC 20210; telephone: (202) 693-2110; email: johnson.david.w@dol.gov. OSHA's Web page includes information about the Variance Program (see http://www.osha.gov/dts/otpca/variances/index.html ).

SUPPLEMENTAL INFORMATION:

I. Background

A. Previous Experimental Variance

On August 31, 1976, OSHA granted Interlake Stamping Corp., 4732 East 355th Street, Willoughby, OH 44094, an experimental variance from the provisions of OSHA standards that regulate mechanical power presses at 29 CFR 1910.217 (41 FR 36702). Below is a description of the history of this experimental variance:

(1) On May 20, 1974, OSHA published a notice in the Federal Register announcing that Interlake submitted an application pursuant to Section 6(d) of the Occupational Safety and Health Act of 1970 (the Act; 29 U.S.C. 655) and 29 CFR 1905.11 for a permanent variance from several provisions of OSHA's mechanical power-presses standard (39 FR 17806); these provisions were 29 CFR 1910.217(c)(3)(iii)(c), which prohibited the use of presence-sensing-device-initiation (PSDI) systems, and 29 CFR 1910.217(d)(1), which regulated conduct of mechanical power-press operations. According to the May 20, 1974, Federal Register notice, Interlake proposed the following alternate means of compliance in its variance application:

The applicant states that he has purchased a 22-ton Bliss OBI mechanical power press equipped with an air friction clutch and an Erwin Sick electronic light curtain. The press is equipped with special controls and a highly reliable brake monitoring system. The applicant further proposes to use the electronic light curtain as both a protective device and as a means of cycling the press. The applicant states that electronic light curtain devices are used as a tripping means in Europe and a large body of standards governing their design and use in this manner has been accumulated . . . .

(2) On June 3, 1974, OSHA published a notice in the Federal Register extending for 30 days the comment period on Interlake's application for a permanent variance (39 FR 19543).

(3) On February 3, 1976, OSHA published a Federal Register notice announcing that Interlake was abandoning its application for a permanent variance and, instead, was applying for an experimental variance pursuant to Section 6(b)(6)(c) of the Act (41 FR 4994). Interlake took this action because OSHA revised the requirements in 29 CFR 1910.217(d)(1) on May 20, 1974 (39 FR 41841), which obviated the applicant's need for a variance from that provision. Concurrently, OSHA renumbered 29 CFR 1910.217(c)(3)(iii)(c) as 29 CFR 1910.217(c)(3)(iii)(b). The new application, therefore, sought an experimental variance from 29 CFR 1910.217(c)(3)(iii)(b). According to the February 3, 1976, Federal Register notice, Interlake was seeking to conduct an experiment designed to demonstrate that it can use the presence-sensing-point-of-operation device on a mechanical power press as a tripping mechanism, in addition to its function as a safety device, while maintaining employee safety at or above the level provided by the standard. Interlake also claimed that the experiment would validate Swedish and German data showing that employers use this tripping mechanism virtually free of accidents.

(4) On August 31, 1976, OSHA published a notice in the Federal Register granting Interlake an experimental variance for a one-year period, August 31, 1976, to August 30, 1977 (41 FR 36702).

(5) On September 9, 1977, OSHA published a Federal Register notice extending the experimental variance for a six-month period, September 1, 1977, to February 28, 1978, to allow Interlake to collect additional information on a number of factors, including the effects of the experimental conditions on worker safety and productivity (42 FR 45389).

(6) On March 17, 1978, OSHA published a notice in the Federal Register extending the experimental variance for a two-year period, March 1, 1977, to February 28, 1979 (43 FR 11275). This extension allowed Interlake to continue collecting information on the effects of the experimental conditions on worker safety and productivity, but also allowed the Agency to collect information for a possible new standard regulating PSDI systems, including information on the need for a certification program and the level of interest in the regulated community for using PSDI systems. In this notice, OSHA also granted Interlake an interim order to preserve the continuity of the experimental conditions pending a final decision on the variance.

(7) On March 6, 1979, OSHA published a notice in the Federal Register extending the experimental variance for an additional two-year period, March 6, 1979, to March 5, 1981, to continue collecting safety and productivity information, and to preserve the continuity of the experimental conditions (44 FR 12288).

(8) On May 29, 1981, OSHA published a Federal Register notice extending the experimental variance for an additional one-year period from May 29, 1981, to May 28, 1982 (46 FR 29010). The main purpose of this extension was to allow the Purdue Research Foundation, under contract to the National Institute for Occupational Safety and Health, to: (1) Observe and evaluate the self-tripping experiment at Interlake; (2) research the design and application practices that could develop if OSHA expanded the experiment to other sites or modified 29 CFR 1910.217(c)(3)(iii)(b); and (3) develop design and performance-criteria approval procedures, and continuing research strategies.

(9) In 1988, OSHA added paragraph (h) to 29 CFR 1910.217 (53 FR 8353). Paragraph (h) allows employers to install and use PSDI systems, but requires that OSHA-approved third parties validate the PSDI systems at the time of installation and annually thereafter. To date, no third party has requested OSHA's approval to validate PSDI systems. In the interim, Interlake continued operating mechanical power presses using PSDI systems under the interim order granted in 1978. However, on March 24, 2011, OSHA informed Interlake that it must submit an application for a permanent variance if it wanted to continue this practice (Ex. OSHA-2013-0011-002).

B. Interlake's Application for a Permanent Variance

On April 8, 2011, OSHA received Interlake's application seeking a permanent variance from Appendices A and C of 29 CFR 1910.217 (see Ex. OSHA-2013-0011-002). Appendix A sets forth requirements for certification/validation of PSDI systems, and Appendix C specifies requirements for OSHA recognition of third-party validation organizations for PSDI systems. Interlake proposed to use PSDI systems as tripping mechanisms under conditions similar to the conditions specified by the experimental variance granted to Interlake by OSHA in 1976 (see previous discussion).

In its variance application, and in its responses to OSHA's follow-up questions (Ex. OSHA-2013-0011-004), Interlake provided a detailed description of its proposed alternate means of worker protection during operation of the PSDI system, including a description of the power presses and light curtains used; the equipment-guarding means and worker training provided; and inspection, testing, and maintenance procedures. Additionally, in its responses to OSHA's follow-up questions, Interlake stated that it never had a worker injured while using PSDI systems during the 36 years it operated the systems under the conditions specified by the experimental variance.

On August 2, 2012, OSHA conducted a site-evaluation visit at Interlake's Willoughby, Ohio, plant. The purpose of the visit was to review and confirm the continued safe operation of the two mechanical power presses equipped with PSDI systems. Based on the results of the site-evaluation visit, OSHA, on March 13, 2013, proposed in a letter to Interlake several additional conditions that the Agency believed Interlake should include in its variance application (Ex. OSHA-2013-0011-005). On April 30, 2013, Interlake responded to this proposal (Ex. OSHA-2013-0011-006). OSHA reviewed Interlake's responses and modified several of the proposed conditions. In a letter dated September 4, 2013, OSHA notified Interlake of the Agency's revisions to the proposed conditions (Ex. OSHA-2013-0011-007). After reviewing these revisions, Interlake notified OSHA on September 17, 2013, that it is withdrawing its application for a permanent variance, stating:

[T]he management team at Interlake Stamping has decided not to pursue the permanent variance for use of the Presence Sensing Device Initiation (PSDI). We feel it would be too costly for us to comply with all of the requirements mandated in the OSHA response going forward, and would be more economical for us to discontinue its use completely. We understand that the experimental variance that Interlake was granted will no longer be in effect and we have removed the connections completely disabling the PSDI system as of this date. (Emphasis in original; Ex. OSHA-2013-0011-008.)

II. Revocation of Interlake's Experimental Variance

Based on its review of the record, and the applicant's request to withdraw its application for a permanent variance, OSHA finds that Interlake no longer needs the experimental variance. Therefore, under the authority specified by 29 CFR 1905.13(a)(2), OSHA is revoking the experimental variance granted to Interlake on August 31, 1976, and extended through April 30, 1982. With this notice, OSHA also is revoking the interim order granted to Interlake on March 17, 1978, under which Interlake continued to comply with the conditions of the experimental variance from May 1, 1982, to September 17, 2013.

Accordingly, Interlake must comply fully with the requirements of 29 CFR 1910.217(h) if it decides to use PSDI systems.

III. Authority and Signature

David Michaels, Ph.D., MPH, Assistant Secretary of Labor for Occupational Safety and Health, U.S. Department of Labor, 200 Constitution Ave. NW., Washington, DC, authorized the preparation of this notice. OSHA is issuing this notice under the authority specified by 29 U.S.C. 655, Secretary of Labor's Order No. 1-2012 (76 FR 3912; Jan. 25, 2012), and 29 CFR part 1905.

Signed at Washington, DC, on March 4, 2014.
David Michaels,
Assistant Secretary of Labor for Occupational Safety and Health.

[FR Doc. 2014-04982 Filed 3-6-14; 8:45 am]

BILLING CODE 4510-26-P